DEPARTMENT OF DEFENSE

Department of the Army, U.S. Army Corps of Engineers

DEPARTMENT OF THE INTERIOR

Bureau of Reclamation

Scoping Period Extension for the Notice of Intent To Prepare a Supplemental Environmental Impact Statement (SEIS) for the Columbia River System Operations

AGENCY: Department of the Army, U.S. Army Corps of Engineers, DOD; Bureau of Reclamation, U.S. Department of the Interior.

ACTION: Notice of intent; extension of comment period.

SUMMARY: The U.S. Army Corps of Engineers and Bureau of Reclamation (co-lead agencies) are further extending the scoping period and re-scheduling public meetings for the notice of intent entitled, “Notice of Intent to Prepare a Supplemental Environmental Impact Statement (SEIS) for the Columbia River System Operations,” published in the Federal Register on December 18, 2024. The revised scoping period will end on August 15, 2025. Information on the public meetings is provided under the SUPPLEMENTARY INFORMATION section of this Notice.

DATES: The co-lead agencies invite Federal and State agencies, Native American Tribes, local governments, and the public to submit scoping comments relevant to the supplemental National Environmental Policy Act (NEPA) process no later than August 15, 2025. Information also will be provided at public meetings. Information on the public meetings is provided under the SUPPLEMENTARY INFORMATION section of this Notice.

ADDRESSES: Written comments, requests to be placed on the project mailing list, and requests for information may be mailed by letter to U.S. Army Corps of Engineers Northwestern Division Attn: CRSO SEIS, P.O. Box 2870, Portland, OR 97208-2870; or by email to columbiariver@usace.army.mil. All comment letters will be available via the project website at https://www.nwd.usace.army.mil/columbiariver/. All comments and materials received, including names and addresses, will become part of the administrative record and may be released to the public. Interested parties should not submit confidential business or otherwise sensitive or protected information.

FOR FURTHER INFORMATION CONTACT: Tim Fleeger, Columbia River Basin Policy and Environmental Coordinator, Northwestern Division, U.S. Army Corps of Engineers 1 (800) 290-5033 or email columbiariver@usace.army.mil. Additional information can be found at the project website: https://www.nwd.usace.army.mil/columbiariver/.

SUPPLEMENTARY INFORMATION: The scoping period for the notice of intent published in the Federal Register on December 18, 2024 (89 FR 102869) was originally extended to May 9, 2025, but is now extended to August 15, 2025. The co-lead agencies invite all affected federal, state, and local agencies, affected Tribes, other interested parties, and the general public to participate in the NEPA process during development of the SEIS. Three (3) virtual public scoping meetings will be held prior to the end of the public scoping period. The specific dates, times, and meeting information will be published on the project website: https://www.nwd.usace.army.mil/columbiariver/. Additional public meetings will be scheduled after release of the draft SEIS.

Jeffrey D. Hall,
Colonel, Corps of Engineers, Deputy Division Commander.
Roland Springer,
Acting Regional Director, Columbia-Pacific Northwest Region, Bureau of Reclamation.

[FR Doc. 2025-07920 Filed 5-6-25; 8:45 am]

BILLING CODE 3720-58-P